DEPARTMENT OF THE INTERIOR

National Park Service

[NPS-WASO-NAGPRA-15174; PPWOCRADN0-PCU00RP14.R50000]

Notice of Inventory Completion: Texas A&M University, College Station, TX

AGENCY: National Park Service, Interior.

ACTION: Notice.

SUMMARY: Texas A&M University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Texas A&M University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains under the control of Texas A&M University, College Station, TX. The human remains were removed from the Aspermont Site in Stonewall County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Texas A&M University (TAMU) professional staff in 1995, and the remains were determined to be ancestral to the Comanche Indians. In 2010, representatives of the Comanche Nation, Oklahoma were invited to consult with TAMU for the purpose of determining the place and manner of the repatriation, but no Comanche Nation, Oklahoma representatives contacted TAMU or visited the remains in response to this invitation.

History and Description of the Remains

Sometime prior to 1995, human remains representing, at minimum, one individual were removed from the Aspermont Site in Stonewall County, TX, and were donated to TAMU. The human remains were determined to be one adult male (TAMU-NAGPRA 59). No known individuals were identified. No associated funerary objects are present. Based on the geographic location of the site, TAMU staff found it reasonable to trace a shared identity from this site to the Comanche Nation, Oklahoma.

Determinations Made by Texas A&M University

Officials of Texas A&M University have determined that:

• Pursuant to 25 U.S.C. 3001(9), the human remains described in this notice represent the physical remains of one individual of Native American ancestry.

• Pursuant to 25 U.S.C. 3001(2), there is a relationship of shared group identity that can be reasonably traced between the Native American human remains and the Comanche Nation, Oklahoma.

Additional Requestors and Disposition

Lineal descendants or representatives of any Indian tribe or Native Hawaiian organization not identified in this notice that wish to request transfer of control of these human remains should submit a written request with information in support of the request to Dr. Suzanne L. Eckert, Department of Anthropology, Texas A&M University, College Station, TX 77843-4352, telephone (979) 845-5242, by May 19, 2014. After that date, if no additional requestors have come forward, transfer of control of the human remains to the Comanche Nation, Oklahoma may proceed.

Texas A&M University is responsible for notifying the Comanche Nation, Oklahoma that this notice has been published.

Dated: March 4, 2014.
Sherry Hutt,
Manager, National NAGPRA Program.

[FR Doc. 2014-08807 Filed 4-16-14; 8:45 am]

BILLING CODE 4312-50-P